DEPARTMENT OF THE INTERIOR

National Park Service

Warner Valley Comprehensive Site Plan, Final Environmental Impact Statement, Lassen Volcanic National Park, Plumas County, CA; Notice of Availability

Summary: Pursuant to § 102(2)(C) of the National Environmental Policy Act of 1969 (Pub. L. 81-190 as amended), the National Park Service (NPS), Department of the Interior, has prepared a Final Environmental Impact Statement (Final EIS) for the Warner Valley Comprehensive Site Plan. This conservation planning effort has four main objectives: (1) Improving visitor experience and enhancing public safety through improvements to infrastructure and relocating infrastructure so it is less visible; (2) Ecological restoration of Warner Valley fen and wetland areas; (3) Removal or repair of Dream Lake Dam and restoration of associated riparian/wetland complex; (4) Protect and enhance the Drakesbad Historic District through removal of non-contributing structures and functions. The Final EIS evaluates alternative methods for accomplishing ecological restoration and cultural resource protection; appropriate mitigation measures are incorporated, and an “environmentally preferred” course of action is identified.

Background: Warner Valley is located in the south central part of the Lassen Volcanic National Park, and encompasses the 400-acre project planning area. This area includes Dream Lake Dam, built in 1932 by Alex Sifford, which impounds an approximately 2.7-acre lake. The center of the valley features a large meadow that contains one of the largest known fens in the Sierra Nevada and Cascade mountains. The upper valley area was originally developed for cattle ranching in the late 1800s by E.R. Drake, who initiated efforts to ditch and dry out the wet meadow to improve the grazing for cattle. In 1900, Mr. Drake sold his Warner Valley property to the Sifford family who focused on developing a summer guest ranch for the next 50 years. The Siffords built the 10 structures which now form the core of Drakesbad Guest Ranch Historic District (both Dream Lake and the meadow are contributing features). They transformed overnight accommodations from tent camping near hot springs into a guest ranch. The Siffords also built or improved trails, created a hot spring-fed pool, constructed corrals, further dewatered the meadow, and constructed the impoundment to create the lake for their guests.

In 1958 the facilities and land were sold to the NPS. The Guest Ranch continues today as a concession operated by California Guest Services. The current Drakesbad wetland conditions include a fen which is drying out and ceasing to function as a fen, and Dream Lake, which has submerged a natural wetland. The Historic District has accumulated many features and structures which diminish its historic character. Lack of clearly demarcated parking affects natural resources by allowing car traffic to encroach in sensitive areas. Hikers traveling the Pacific Crest Trail must walk on the unimproved Warner Valley Road, which also passes through the nearby campground.

Range of Alternatives: The Final EIS describes and analyzes a “no action” alternative (Alternative 1) which would continue current management practices, and two “action” alternatives. Alternatives 2 and 3 contain a varying mix of three major components: (1) Enhancing visitor experience and safety through improving or relocating non-essential infrastructure so it has less impact on park visitor experience and historic district qualities; (2) ecological restoration of wetlands including Drakesbad fen, the larger Warner Valley fen wetland, and Dream Lake submerged riparian/wetland complex; (3) protecting and enhancing the Historic District by removing non-contributing structures and functions.

Both “action” alternatives include the following common elements:

• Move concession employee housing, storage, generator, and propane tanks out of the Historic District and into a new service area.

• Create a Pacific Crest Trail connection so hikers may avoid walking along Warner Valley road.

• Renovate and slightly expand the non-historic bathhouse adjacent to the swimming pool.

• Reduce parking sprawl by replacing inadequate wheel stops.

• Make minor changes to the campground and fee station location, including relocation of the day use/trailhead parking from a meadow to the campground.

Alternative 2 (agency preferred) components include: (a) Ecological restoration of Warner Valley fen through permanently filling ditches with appropriate soil and native material; (b) creation of a concession housing and service center outside of the Historic District composed of tent cabins surrounding a single-story bathroom building; (c) removal of Dream Lake Dam and allowing the area to revert to a riparian/wetland complex. In addition, a change to Alternative 2 (as was presented in the Draft EIS) has been incorporated, in response to public comment and further staff analysis, which is as follows: relocate, rather than eliminate, the volleyball court to a location adjacent to the pool. This change is intended to protect historic viewsheds yet maintain a range of recreational activities for Guest Ranch visitors. This alternative has also been deemed to be “environmentally preferred”.

Alternative 3 includes: (a) Restoration of Warner Valley fen through selective damming of ditches; (b) creation of a concession housing and service center outside the Drakesbad Historic District composed of a two-story dormitory building with bathrooms; (c) reconstruction of Dream Lake Dam to Bureau of Reclamation engineering standards. There are no changes to this alternative.

Public Involvement and Agency Coordination: The original public scoping effort focused on a proposed Dream Lake Dam Management Plan. Preliminary meetings were held during November 4-7, 2002, in Chico, Red Bluff, Redding, and Chester. Meeting announcements were printed in the Red Bluff Daily News, Chester Progressive, Redding Record Searchlight, and the Sacramento Bee (twenty additional media outlets, including newspaper, radio stations, and television stations were also notified). Formal public scoping for this Management Plan was announced in the Federal Register on April 4, 2003. This initial conservation planning effort was expanded into the broader Warner Valley Comprehensive Site Plan as it became apparent that separate planning projects would be more time consuming to accomplish. Preliminary scoping for the Warner Valley Comprehensive Site Plan was initiated on June 1, 2004, with solicitations at the Drakesbad Guest Ranch Lodge for comments about potential future management options for the upper valley area. Public meetings for the Comprehensive Site Plan were held during June 13-15, 2005, in Red Bluff, Chester, and Vacaville. The same media outlets mentioned above were notified, and approximately 700 public scoping announcements were distributed. Formal scoping was initiated on June 24, 2005, with publication in the Federal Register of the Notice of Intent to prepare an EIS. These outreach activities elicited information from individuals, agencies, and organizations, which aided the alternatives formulation and environmental impact analysis processes; all comments obtained throughout the extended scoping effort are available in the administrative record.

On August 21, 2009, the Warner Valley Comprehensive Site Plan/Draft Environmental Impact Statement (Draft EIS) was released for a 90-day public review period, closing on November 21, 2009. Three public open houses were hosted; on September 2 in Chester, September 3 in Anderson, and September 8 in Vacaville. Copies of the Draft EIS were available for review at local libraries and the open houses, and an electronic version was posted at both Lassen Volcanic National Park's Web site http://www.nps.gov/lavo/parkmgmt/index.htm and the NPS Planning, Environment and Public Comment Web site http://parkplanning.nps.gov. A total of 33 comment letters were received, including from Greenville Rancheria, the Environmental Protection Agency, the Federal Emergency Management Agency, the California Regional Water Quality Control Board, the Northern Sierra Air Quality District, the Almanor Basin Fire Safe Council, and assorted letters from groups and individuals. Topics mentioned most frequently included: Restoration of Drakesbad Meadow; removal of Dream Lake Dam; alternative energy use; changes to campgrounds and redesign of trails and pathways; proposed new concessioner employee housing; and relocation of the volleyball court. Personal letters conveyed opinions both in favor and against actions proposed—some of these comments arose out of interest in preserving Drakesbad Guest Ranch in its present condition without any significant changes. Agencies provided information regarding regulatory requirements and permitting. Comments and responses are detailed in Chapter 6 of the Final EIS.

Supplementary Information: The Final EIS will be distributed in the same manner as the Draft EIS. In addition to this announcement, availability of the document will be publicized through local and regional press media. The document will be available at park headquarters and at local public libraries, and an electronic version will also be posted on the Lassen Volcanic National Park and NPS Web sites (see above). New requests for the document can be made at (530) 595-4444 extension 5101 or lavo_planning@nps.gov. Not sooner than thirty days after the Federal Register notice by the Environmental Protection Agency of availability of the Final EIS, a Record of Decision may be prepared. As a delegated EIS, the official responsible for approval of the Comprehensive Site Plan is the Regional Director, Pacific West Region. The official subsequently responsible for implementation will be the Superintendent, Lassen Volcanic National Park.

Dated: March 19, 2010.
Patricia L. Neubacher,
Acting Regional Director, Pacific West Region.

[FR Doc. 2010-24790 Filed 10-1-10; 8:45 am]

BILLING CODE 4312-GD-P